DEPARTMENT OF AGRICULTURE

Forest Service

Northeast Washington Resource Advisory Committee (RAC); Meeting

AGENCY: Forest Service, USDA.

ACTION: Notice of meeting.

SUMMARY: The Northeast Washington Resource Advisory Council will meet Wednesday and Thursday, January 23 and 24, 2002 at the Spokane Community College, Colville Campus Monumental Room at 985 S. Elm Street, Colville, Washington. The meeting will begin at 9 a.m. and continue until 4 p.m. each day.

Agenda items include: (1) FACA overview, (2) roles and responsibilities, (3) review RAC guidebook, (4) communication strategies, (5) future agenda items, (6) future meeting dates, (7) project process and identification, (8) election of chairperson, and (9) Public Forum.

FOR FURTHER INFORMATION CONTACT: Direct questions regarding this meeting to designated federal official, Nora Rasure or Cynthia Reichelt, Public Affairs Officer, Colville National Forest, 765 S. Main, Colville, Washington 99114: (509) 684-7000.

Dated: December 28, 2001.
Nora B. Rasure,
Forest Supervisor.

[FR Doc. 02-395 Filed 1-7-02; 8:45 am]

BILLING CODE 3410-11-M